DEPARTMENT OF EDUCATION

Applications for New Awards; Personnel Development To Improve Services and Results for Children With Disabilities; Personnel Preparation in Special Education, Early Intervention, and Related Services

AGENCY: Office of Special Education and Rehabilitative Services, Department of Education.

ACTION: Notice.

Overview Information:

Personnel Development to Improve Services and Results for Children with Disabilities—Personnel Preparation in Special Education, Early Intervention, and Related Services Notice inviting applications for new awards for fiscal year (FY) 2015.

Catalog of Federal Domestic Assistance (CFDA) Number: 84.325K.

Dates:

Applications Available: October 22, 2014.

Deadline for Transmittal of Applications: December 5, 2014.

Deadline for Intergovernmental Review: February 3, 2015.

Full Text of Announcement

I. Funding Opportunity Description

Purpose of Program: The purposes of this program are to (1) help address State-identified needs for personnel preparation in special education, early intervention, related services, and regular education to work with children, including infants and toddlers, with disabilities; and (2) ensure that those personnel have the necessary skills and knowledge, derived from practices that have been determined through scientifically based research and experience, to be successful in serving those children.

Priority: In accordance with 34 CFR 75.105(b)(2)(iv), this priority is from allowable activities specified in the statute (see sections 662 and 681 of the Individuals with Disabilities Education Act (IDEA)).

Absolute Priority: For FY 2015 and any subsequent year in which we make awards from the list of unfunded applicants from this competition, this priority is an absolute priority. Under 34 CFR 75.105(c)(3), we consider only applications that meet this priority.

This priority is:

Personnel Preparation in Special Education, Early Intervention, and Related Services.

Background:

The purpose of the Personnel Preparation in Special Education, Early Intervention, and Related Services priority is to improve the quality and increase the number of personnel who are fully credentialed to serve children, including infants and toddlers, with disabilities—especially in areas of chronic personnel shortage—by supporting projects that prepare special education, early intervention, and related services personnel at the baccalaureate, master's, and specialist levels. State demand for fully credentialed special education, early intervention, and related services personnel to serve infants, toddlers, and children with disabilities exceeds the available supply (Bruder, 2004a; Bruder, 2004b; McLeskey & Billingsley, 2008; McLeskey, Tyler, & Flippin, 2004). These shortages of fully credentialed personnel can negatively affect the quality of services provided to infants, toddlers, and children with disabilities and their families (McLeskey et al., 2004).

Personnel preparation programs that prepare personnel to enter the fields of special education, early intervention, and related services as fully credentialed personnel who are well qualified, have the necessary competencies, and effectively use evidence-based practices to improve outcomes for children with disabilities are critical to overcome the personnel shortages in these fields. Federal support of these personnel preparation programs is needed to increase the supply of personnel with the necessary competencies to effectively serve infants, toddlers, and children with disabilities and their families, and to make sure students with disabilities have access to and meet college- and career-ready standards.

Priority:

Except as provided for Focus Area D projects, to meet this priority, an applicant must propose a project associated with a pre-existing baccalaureate, master's, or specialist degree personnel preparation program that will prepare and support scholars¹ to complete, within the project period of the grant, a degree, State certification, professional license, or State endorsement in special education, early intervention, or a related services field. Projects also can be associated with personnel preparation programs that (a) prepare individuals to be assistants in related services professions (e.g., physical therapist assistants, occupational therapist assistants) or educational interpreters; or (b) provide an alternate route to certification or that support dual certification (special education and regular education) for teachers. For purposes of this priority, the term “personnel preparation program” refers to the program with which the applicant's proposed project is associated.

¹ For the purposes of this priority, the term “scholar” means an individual who is pursuing a degree, license, endorsement, or certification related to special education, related services, or early intervention services and who receives scholarship assistance under section 662 of IDEA (see 34 CFR 304.3(g)).

To be considered for funding under the Personnel Preparation in Special Education, Early Intervention, and Related Services absolute priority, applicants must meet the application requirements contained in this priority. All projects funded under this absolute priority also must meet the programmatic and administrative requirements specified in the priority.

The requirements of this priority are as follows:

(a) Demonstrate, in the narrative section of the application under “Significance of the Project,” how the proposed project will—

(1) Address national, State, or regional shortages of personnel who are fully credentialed to serve children with disabilities, ages birth through 21, including high-need children with disabilities,² by preparing special education, early intervention, or related services personnel at the baccalaureate, master's, or specialist levels. To address this requirement, the applicant must present—

² For the purposes of this priority, “high-need children with disabilities” refers to children (ages birth through 21, depending on the State) who are eligible for services under IDEA, and who may be further disadvantaged and at risk of educational failure because they: (1) Are living in poverty, (2) are far below grade level, (3) are at risk of not graduating with a regular high school diploma on time, (4) are homeless, (5) are in foster care, (6) have been incarcerated, (7) are English learners, (8) are pregnant or parenting teenagers, (9) are new immigrants, (10) are migrant, or (11) are not on track to being college- or career-ready by graduation.

(i) Appropriate and applicable data that demonstrate a national, State, or regional need for the personnel the applicant proposes to prepare; and

(ii) Data that demonstrate the effectiveness of the applicant's personnel preparation program to date in areas such as: The average amount of time it takes program participants to complete the program; the percentage of program graduates finding employment related to their preparation within one year of graduation; the effectiveness of program graduates in providing special education, early intervention, or related services, which could include data on the learning and developmental outcomes of children with disabilities they serve; or the percentage of program graduates who maintain employment for three or more years in the area for which they were prepared and who are fully qualified under IDEA.

Note: Data provided in response to this requirement should be no older than five years from the start date of the project proposed in the application. When reporting percentages, the denominator (e.g., total number of students or program graduates) must be provided.

(2) Increase the number of personnel who demonstrate the competencies needed to provide high-quality instruction, evidence-based interventions, and services for children with disabilities, ages birth through 21, including high-need children with disabilities, that result in improvements in learning and developmental outcomes (e.g., academic, social, emotional, behavioral), and successful transition to postsecondary education and the workforce. To address this requirement, the applicant must—

(i) Identify the competencies ³ that special education, early intervention, or related services personnel need in order to provide high-quality services using evidence-based instruction and interventions that will lead to improved learning and developmental outcomes; ensure access to college- and career-ready standards; lead to successful transition to college and career for children with disabilities, including high-need children with disabilities; and maximize the use of effective technology to deliver instruction, interventions, and services; and

³ For the purposes of this priority, the term “competencies” means what a person knows and can do: the knowledge, skills, and dispositions necessary to effectively function in a role (National Professional Development Center on Inclusion, 2011). These competencies should ensure that personnel are able to use challenging national and State content standards, child achievement and functional standards, and State assessments, to improve instructional practices, services, and learning and developmental outcomes (e.g., academic, social, emotional, behavioral); and college- and career-readiness of children with disabilities.

(ii) Provide the conceptual framework of the personnel preparation program, including any empirical support, that will promote the acquisition of the identified competencies (see paragraph (a)(2)(i) of this priority) needed by special education, early intervention, or related services personnel, and how these competencies relate to the proposed project.

(b) Demonstrate, in the narrative section of the application under “Quality of Project Services,” how the proposed project—

(1) Will recruit and retain high-quality scholars and ensure equal access and treatment for eligible project participants who are members of groups who have traditionally been underrepresented based on race, color, national origin, gender, age, or disability. To meet this requirement, the applicant must describe—

(i) The selection criteria that it will use to identify high-quality applicants for admission to the proposed project;

(ii) The recruitment strategies that it will use to attract high-quality applicants and any specific recruitment strategies targeting high-quality applicants from traditionally underrepresented groups, including individuals with disabilities; and

(iii) The approach, including mentoring, monitoring, and accommodations, that will be used to support scholars to complete the personnel preparation program.

(2) Reflects current research and evidence-based practices, and is designed to prepare scholars in the identified competencies. To address this requirement, the applicant must describe how the proposed project will—

(i) Incorporate current research and evidence-based practices that improve outcomes (e.g., meeting college- and career-ready standards) for children with disabilities (including relevant research citations) into the project's required coursework and clinical experiences; and

(ii) Use current research and evidence-based professional development practices for adult learners to instruct scholars.

(3) Is of sufficient quality, intensity, and duration to prepare scholars in the identified competencies. To address this requirement, the applicant must describe how—

(i) The components of the proposed project (e.g., coursework, clinical experiences, or internships) will support scholars' acquisition and enhancement of the identified competencies;

(ii) The components of the proposed project (e.g., coursework, clinical experiences, or internships) will be integrated to allow scholars to use their content knowledge in clinical practice, and how scholars will be provided with ongoing guidance and feedback; and

(iii) The proposed project will provide ongoing induction opportunities and support to program graduates.

(4) Will collaborate with appropriate partners, including—

(i) High-need LEAs; ⁴ high-poverty schools; ⁵ low-performing schools, including persistently lowest-achieving schools; ⁶ priority schools (in the case of States that have received the U.S. Department of Education's (Department's) approval of a request for Elementary and Secondary Education Act of 1965, as amended (ESEA) flexibility),⁷ or publicly funded preschool programs, including Head Start programs and programs serving children eligible for services under IDEA Part C and Part B, Section 619, that are located within the geographic boundaries of a high-need LEA. The purpose of these partnerships is to provide clinical practice for scholars aimed at developing the identified competencies; and

⁴ For the purposes of this priority, the term “high-need LEA” means an LEA (a) that serves not fewer than 10,000 children from families with incomes below the poverty line; or (b) for which not less than 20 percent of the children served by the LEA are from families with incomes below the poverty line.

⁵ For the purposes of this priority, the term “high-poverty school” means a school in which at least 50 percent of students are eligible for free or reduced-price lunches under the Richard B. Russell National School Lunch Act or in which at least 50 percent of students are from low-income families as determined using one of the criteria specified under section 1113(a)(5) of the Elementary and Secondary Education Act of 1965, as amended (ESEA). For middle and high schools, eligibility may be calculated on the basis of comparable data from feeder schools. Eligibility as a high-poverty school under this definition is determined on the basis of the most currently available data (www2.ed.gov/legislation/FedRegister/other/2010-4/121510b.html).

⁶ For the purposes of this priority, the term “persistently lowest-achieving schools” means, as determined by the State—

(a)(1) Any Title I school in improvement, corrective action, or restructuring that—

(i) Is among the lowest-achieving five percent of Title I schools in improvement, corrective action, or restructuring or the lowest-achieving five Title I schools in improvement, corrective action, or restructuring in the State, whichever number of schools is greater; or

(ii) Is a high school that has had a graduation rate as defined in 34 CFR 200.19(b) that is less than 60 percent over a number of years; and

(2) Any secondary school that is eligible for, but does not receive, Title I funds that—

(i) Is among the lowest-achieving five percent of secondary schools or the lowest-achieving five secondary schools in the State that are eligible for, but do not receive, Title I funds, whichever number of schools is greater; or

(ii) Is a high school that has had a graduation rate as defined in 34 CFR 200.19(b) that is less than 60 percent over a number of years.

(b) To identify the lowest-achieving schools, a State must take into account both—

(i) The academic achievement of the “all students” group in a school in terms of proficiency on the State's assessments under section 1111(b)(3) of the ESEA in reading/language arts and mathematics combined; and

(ii) The school's lack of progress on those assessments over a number of years in the “all students” group.

For the purposes of this priority, the Department considers schools that are identified as Tier I or Tier II schools under the School Improvement Grants Program (see 75 FR 66363 [October 28, 2010]) as part of a State's approved FY 2009, FY 2010, FY 2011, or FY 2012 application to be persistently lowest-achieving schools. A list of these Tier I and Tier II schools can be found on the Department's Web site at www2.ed.gov/programs/sif/index.html.

⁷ For the purposes of this priority, the term “priority school” means a school that has been identified by the State as a priority school pursuant to the State's approved request for ESEA flexibility.

(ii) Other programs on campus or at partnering universities for the purpose of sharing resources, supporting program development and delivery, and addressing personnel shortages.

(5) Will use technology, as appropriate, to promote scholar learning, enhance the efficiency of the project, collaborate with partners, and facilitate ongoing mentoring and support for scholars.

(6) Will align with and use resources, as appropriate, available through technical assistance centers, which may include centers funded by the Department.

(c) Include, in the narrative section of the application under “Quality of Project Evaluation,” how—

(1) The proposed project will use comprehensive and appropriate methodologies to evaluate the effectiveness of the project, including the effectiveness of project processes and outcomes.

(2) The proposed project will collect and analyze data related to specific and measurable goals, objectives, and outcomes of the project. To address this requirement, the applicant must describe—

(i) How scholar competencies and other project processes and outcomes will be measured for formative evaluation purposes, including proposed instruments, data collection methods, and possible analyses; and

(ii) How data on the quality of services provided by proposed project graduates, including data on the learning and developmental outcomes (e.g., academic, social, emotional, behavioral, meeting college- and career-ready standards) and on growth toward these outcomes of the children with disabilities that the project graduates serve, will be collected and analyzed.

Note: Following the completion of the project period, grantees are encouraged—but not required—to engage in ongoing data collection activities.

(3) The methods of evaluation will produce quantitative and qualitative data for objective performance measures that are related to the outcomes of the proposed project.

(4) The methods of evaluation will provide performance feedback and allow for periodic assessment of progress towards meeting the project outcomes. To address this requirement, the applicant must describe how—

(i) Findings from the evaluation will be used as a basis for improving the proposed project to prepare special education, early intervention, or related services personnel to provide high-quality interventions and services to improve outcomes of children with disabilities; and

(ii) The proposed project will report evaluation results to the Office of Special Education Programs (OSEP) in the annual and final performance reports.

(d) Demonstrate, in the narrative under “Project Assurances,” or appendices, as applicable, that the following program requirements are met. The applicant must—

(1) Include, in the application as Appendix B, syllabi for all required coursework of the proposed project, including syllabi for new or proposed courses.

(2) Ensure that the proposed number of scholars to be recruited into the program can graduate from the program by the end of the grant's project period. The strategies for recruiting scholars (including individuals with disabilities), the program components and their sequence, and proposed budget must be consistent with this project requirement.

(3) Ensure that prior approval from the OSEP project officer will be obtained before admitting additional scholars beyond the number of scholars proposed in the application and before transferring a scholar to another OSEP-funded grant.

(4) Ensure that the project will meet the service obligation requirements in 34 CFR part 304, particularly those related to informing all scholarship recipients of their service obligation commitment. Failure by a grantee to properly meet these requirements would be a violation of the grant award that could result in sanctions, including the grantee being liable for returning any misused funds to the Department. Specifically, the grantee must prepare and ensure that each scholarship recipient signs the following two documents:

(i) A Pre-Scholarship Agreement prior to the scholar receiving a scholarship for an eligible program (OMB Control Number 1820-0686); and

(ii) An Exit Certification immediately upon the scholar leaving, completing, or otherwise exiting that program (OMB Control Number 1820-0686).

(5) Ensure that the project will meet the statutory requirements in section 662(e) through 662(h) of IDEA.

(6) Ensure that at least 65 percent of the total requested budget over the five years will be used for scholar support.

(7) Ensure that the institution of higher education (IHE) will not require scholars to work (e.g., as graduate assistants) as a condition of receiving support (e.g., tuition, stipends, books) from the proposed project unless the work is specifically required to advance scholars' competencies or complete other requirements in their personnel preparation program. Please note that this prohibition on work as a condition of receiving support does not apply to the service obligation requirements in section 662(h) of IDEA.

(8) Ensure that the budget includes attendance of the project director at a three-day project directors' meeting in Washington, DC, during each year of the project.

(9) Ensure that if the proposed project maintains a Web site, relevant information and documents are in a format that meets government or industry-recognized standards for accessibility.

(10) Ensure that the project director submits annual data on each scholar who receives grant support. Applicants are encouraged to visit the Personnel Development Program Scholar Data Report Web site at: http://oseppdp.ed.gov for further information about this data collection requirement. Typically, data collection begins in January of each year, and grantees are notified by email about the data collection period for their grant. This data collection must be submitted electronically by the grantee and does not supplant the annual grant performance report required of each grantee for continuation funding (see 34 CFR 75.590).

Focus Areas:

Within this absolute priority, the Secretary intends to support projects under the following four focus areas: (A) Preparing Personnel to Serve Infants, Toddlers, and Preschool-Age Children with Disabilities; (B) Preparing Personnel to Serve School-Age Children with Low-Incidence Disabilities; (C) Preparing Personnel to Provide Related Services to Children, Including Infants and Toddlers, with Disabilities; and (D) Preparing Personnel in Minority Institutions of Higher Education to Serve Children, Including Infants and Toddlers, with Disabilities. Interdisciplinary projects are encouraged to apply under Focus Area A, B, C, or D. Interdisciplinary projects are projects that deliver core content through coursework and clinical experiences shared across disciplines.

Note: Applicants must identify the specific focus area (i.e., A, B, C, or D) under which they are applying as part of the competition title on the application cover sheet (SF form 424, line 4). Applicants may not submit the same proposal under more than one focus area.

Focus Area A: Preparing Personnel to Serve Infants, Toddlers, and Preschool-Age Children with Disabilities. OSEP intends to fund six awards under this focus area. For the purpose of Focus Area A, early intervention personnel are those who are prepared to provide services to infants and toddlers with disabilities ages birth to three, and early childhood personnel are those who are prepared to provide services to children with disabilities ages three through five (and in States where the age range is other than ages three through five, we will defer to the State's certification for early childhood). In States where certification in early intervention is combined with certification in early childhood, applicants may propose a combined early intervention and early childhood personnel preparation project under this focus area. We encourage interdisciplinary projects under this focus area. For purposes of this focus area, interdisciplinary projects are projects that deliver core content through coursework and clinical experiences shared across disciplines for early intervention providers or early childhood special educators, and related services personnel to serve infants, toddlers, and preschool-age children with disabilities. Projects preparing only related services personnel to serve infants, toddlers, and preschool-age children with disabilities are not eligible under this focus area (see Focus Area C). Scholars in the program should be able to demonstrate the competencies outlined in a State's Workforce Knowledge and Competency Framework,⁸ as appropriate.

⁸ For the purposes of this priority, “Workforce Knowledge and Competency Framework” is defined by the definitions published in the Notice Inviting Applications for New Awards for Fiscal Year 2013 Race to the Top-Early Learning Challenge (RTT-ELC) (78 FR 53992 [August 30, 2013]): a set of expectations that describes what Early Childhood Educators (including those working with children with disabilities and English learners) should know and be able to do. The Workforce Knowledge and Competency Framework, at a minimum (a) is evidence-based; (b) incorporates knowledge and application of the State's Early Learning and Development Standards, the Comprehensive Assessment Systems, child development, health, and culturally and linguistically appropriate strategies for working with families; (c) includes knowledge of early mathematics and literacy development and effective instructional practices to support mathematics and literacy development in young children; (d) incorporates effective use of data to guide instruction and program improvement; (e) includes effective behavior management strategies that promote positive social-emotional development and reduce challenging behaviors; and (f) incorporates feedback from experts at the State's postsecondary institutions and other early learning and development experts and Early Childhood Educators.

Focus Area B: Preparing Personnel to Serve School-Age Children with Low-Incidence Disabilities. OSEP intends to fund twelve awards under this focus area. For the purpose of Focus Area B, personnel who serve children with low-incidence disabilities are special education personnel prepared to serve school-age children with low-incidence disabilities, including visual impairments, hearing impairments, simultaneous visual and hearing impairments, significant intellectual disabilities, orthopedic impairments, traumatic brain injury, and persistent and severe learning and behavioral problems that need the most intensive individualized supports. Programs preparing special education personnel to provide services to children with visual impairments or blindness that can be appropriately provided in braille must prepare those individuals to provide those services in braille, including the Unified English Braille Code (UEB). Projects preparing educational interpreters are eligible under this focus area. We encourage interdisciplinary projects under this focus area. For purposes of this focus area, interdisciplinary projects are projects that deliver core content through coursework and clinical experiences shared across disciplines for low-incidence and related services personnel to serve school-aged children with low incidence disabilities. Projects preparing early intervention or preschool personnel are not eligible under this focus area (see Focus Area A).

Focus Area C: Preparing Personnel to Provide Related Services to Children, Including Infants and Toddlers, with Disabilities. OSEP intends to fund eight awards under this focus area. Programs preparing related services personnel to serve children, including infants and toddlers, with disabilities are eligible within Focus Area C. For the purpose of this focus area, related services include, but are not limited to, psychological services, physical therapy (including therapy provided by personnel prepared at the Doctor of Physical Therapy (DPT) level), adapted physical education, occupational therapy, therapeutic recreation, social work services, counseling services, audiology services (including services provided by personnel prepared at the Doctor of Audiology (AudD) level), speech and language services, and applied behavior analysis services provided by personnel at the Board Certified Behavior Specialists level. Preparation programs in States where personnel prepared to serve children with speech and language impairments are considered to be special educators are eligible under this focus area. We encourage interdisciplinary projects under this focus area.

For purposes of this focus area, interdisciplinary projects are projects that deliver core content through coursework and clinical experiences shared across disciplines for related services personnel who serve children, including infants and toddlers, with disabilities. Projects preparing educational interpreters are not eligible under this focus area (see Focus Area B).

Focus Area D: Preparing Personnel in Minority Institutions of Higher Education to Serve Children, Including Infants and Toddlers, with Disabilities. OSEP intends to fund ten awards under this focus area. Programs in minority IHEs are eligible under Focus Area D if they prepare one of the following: (a) Personnel to serve infants, toddlers, and preschool-age children with disabilities; (b) personnel to serve school-age children with low-incidence disabilities, including those with persistent and severe learning or behavioral problems that need the most intensive individualized supports; or (c) personnel to provide related services to children, including infants and toddlers, with disabilities. Minority IHEs include IHEs with a minority enrollment of 50 percent or more, which may include Historically Black Colleges and Universities, Tribal Colleges, and Predominantly Hispanic Serving Colleges and Universities. We encourage interdisciplinary projects under this focus area. For purposes of this focus area, interdisciplinary projects are projects that deliver core content through coursework and clinical experiences shared across disciplines for: (a) Early intervention providers or early childhood special educators and related services personnel who serve infants, toddlers, and preschool-age children with disabilities; (b) low-incidence and related services personnel who serve school-age children with low-incidence disabilities; or (c) related services personnel who serve children, including infants and toddlers, with disabilities. Programs in minority IHEs preparing personnel in Focus Area A, B, or C are eligible within Focus Area D. Programs preparing high-incidence special education personnel are not eligible under this priority.

Note: In Focus Area D, OSEP intends to fund in FY 2015 at least three high-quality applications from Historically Black Colleges and Universities and, as a result, may fund applications out of rank order.

Note: A project funded under Focus Area D may budget for less than the 65 percent required for scholar support if the applicant can provide sufficient justification for a designation less than this required percentage. Sufficient justification for proposing less than 65 percent of the budget for scholar support would include support for activities such as program development, program expansion, or the addition of a new area of emphasis. Some examples of projects that may be eligible to designate less than 65 percent of their budget for scholar support include the following:

(1) A project that is proposing to develop and deliver a newly established baccalaureate, master's, and specialist level personnel preparation program or add a new area of emphasis may request up to a year of funding for program development (e.g., hiring of a new faculty member or consultant to assist in course development, providing professional development and training for faculty). In the initial project year, scholar support would not be required. The project must demonstrate that the newly established program or area of emphasis is approved and ready for implementation in order to receive continuation funds in year two.

(2) A project that is proposing to expand or enhance an existing program may request funding for capacity building (e.g., hiring of a clinical practice supervisor, providing professional development and training for faculty) or purchasing needed resources (e.g., additional teaching supplies or specialized equipment to enhance instruction).

Note: Applicants proposing projects to develop, expand, or add a new area of emphasis to special education or related services programs must provide, in their applications, information on how these new areas will be sustained once Federal funding ends.

References

Bruder, M. B. (December, 2004a). The National Landscape of Early Intervention in Personnel Preparation Standards under Part C of the Individuals with Disabilities Education Act (IDEA) (Study I Data Report). Farmington, CT: A. J. Pappanikou Center for Excellence in Developmental Disabilities. Retrieved from: www.uconnucedd.org/pdfs/projects/per_prep/pp_data_report_study1_partc_11_14_08.pdf.

Bruder, M. B. (December, 2004b). The National Landscape of Early Childhood Special Education in Personnel Preparation Standards under 619 of the Individuals with Disabilities Education Act (IDEA) (Study I Data Report). Farmington, CT: A. J. Pappanikou Center for Excellence in Developmental Disabilities. Retrieved from: www.uconnucedd.org/pdfs/projects/per_prep/pp_data_report_study1_619_11_19_08%20ccs.pdf.

McLeskey, J., & Billingsley, B. (2008). How does the quality and stability of the teaching force influence the research-to-practice gap? Remedial and Special Education, 29(5), 293-305.

McLeskey, J., Tyler, N., & Flippin, S. S. (2004). The supply and demand for special education teachers: A review of research regarding the chronic shortage of special education teachers. Journal of Special Education, 38(1), 5-21.

National Professional Development Center on Inclusion. (August, 2011). Competencies for early childhood educators in the context of inclusion: Issues and guidance for States. Chapel Hill, NC: The University of North Carolina, FPG Child Development Institute, Author.

Waiver of Proposed Rulemaking: Under the Administrative Procedure Act (APA) (5 U.S.C. 553) the Department generally offers interested parties the opportunity to comment on the proposed priorities and requirements. Section 681(d) of IDEA, however, makes the public comment requirements of the APA inapplicable to the priority in this notice.

Program Authority: 20 U.S.C. 1462 and 1481.

Applicable Regulations: This Notice Inviting Applications (NIA) is being published before the Department adopts the Uniform Administrative Requirements, Cost Principles, and Audit Requirements in 2 CFR part 200. We expect to publish interim final regulations that would adopt those requirements before December 26, 2014, and make those regulations effective on that date. Because grants awarded under this NIA will likely be made after ED adopts the requirements in 2 CFR part 200, we list as applicable regulations both those that are currently effective and those that will be effective at the time ED makes grants.

The current regulations follow: (a) The Education Department General Administrative Regulations (EDGAR) in 34 CFR parts 74, 75, 77, 79, 80, 81, 82, 84, 86, 97, 98, and 99. (b) The Education Department debarment and suspension regulations in 2 CFR part 3485. (c) The regulations for this program in 34 CFR part 304.

At the time we award grants under this NIA, the following regulations will apply: (a) The Education Department General Administrative Regulations (EDGAR) in 34 CFR parts 75, 77, 79, 81, 82, 84, 86, 97, 98, and 99. (b) The Education Department debarment and suspension regulations as adopted in 2 CFR part 3485 and the Uniform Administrative Requirements, Cost Principles, and Audit Requirements for Federal Awards as adopted in 2 CFR part 3474. (c) The regulations for this program in 34 CFR part 304.

Note: The regulations in 34 CFR part 79 apply to all applicants except federally recognized Indian tribes.

Note: The regulations in 34 CFR part 86 apply only to institutions of higher education (IHEs).

II. Award Information

Type of Award: Discretionary grants.

Estimated Available Funds: The Administration has requested $83,700,000 for the Personnel Development to Improve Services and Results for Children with Disabilities program for FY 2015, of which we intend to use an estimated $9,000,000 for this competition. The actual level of funding, if any, depends on final congressional action. However, we are inviting applications to allow enough time to complete the grant process if Congress appropriates funds for this program.

Contingent upon the availability of funds and the quality of applications, we may make additional awards in FY 2016 from the list of unfunded applicants from this competition.

Estimated Range of Awards: See chart.

Estimated Average Size of Awards: See chart.

Maximum Award: See chart.

Estimated Number of Awards: See chart.

Project Period: See chart.

Personnel Development To Improve Services and Results for Children With Disabilities (84.325k) Application Notice for Fiscal Year 2015
CFDA No. and name | Applications available | Deadline for transmittal of applications | Deadline for intergovernmental review | Estimated range of awards | Estimated average size of awards | Maximum award for each budget period of 12 months | Estimated number of awards | Project period | Contact person
84.325K Personnel Preparation in Special Education, Early Intervention, and Related Services | March 22, 2014 | December 5, 2014 | February 3, 2015
Focus Area A: Preparing Personnel to Serve Infants, Toddlers, and Pre-school Age Children with Disabilities |  |  |  | $225,000-$250,000 | $237,500 | * $250,000 | 6 | Up to 60 mos | Maryann McDermott, 202-245-7439, maryann.mcdermott@ed.gov, PCP, Room 4062.
Focus Area B: Preparing Personnel to Serve School-Age Children with Low Incidence Disabilities |  |  |  | $225,000-$250,000 | 237,500 | * 250,000 | 12 | Up to 60 mos | Maryann McDermott, 202-245-7439, maryann.mcdermott@ed.gov, PCP, Room 4062.
Focus Area C: Preparing Personnel to Provide Related Services to Children, Including Infants and Toddlers, with Disabilities |  |  |  | $225,000-$250,000 | 237,500 | * 250,000 | 8 | Up to 60 mos | Sarah Allen, 202-245-7875, sarah.allen@ed.gov, PCP, Room 4105.
Focus Area D: Preparing Personnel in Minority Institutions of Higher Education to Serve Children, Including Infants and Toddlers, with Disabilities |  |  |  | $225,000-$250,000 | 237,500 | * 250,000 | 10 | Up to 60 mos | Dawn Ellis, 202-245-6417, dawn.ellis@ed.gov, PCP, Room 4092.
* We will reject any application that proposes a budget exceeding the maximum award for a single budget period of 12 months. The Assistant Secretary for Special Education and Rehabilitative Services may change the maximum amount through a notice published in the Federal Register.

Note: The Department is not bound by any estimates in this notice.

III. Eligibility Information

1. Eligible Applicants: IHEs and private nonprofit organizations.

2. Cost Sharing or Matching: This program does not require cost sharing or matching.

3. Other General Requirements:

(a) Recipients of funding under this program must make positive efforts to employ and advance in employment qualified individuals with disabilities (see section 606 of IDEA).

(b) Each applicant for, and recipient of, funding under this program must involve individuals with disabilities, or parents of individuals with disabilities ages birth through 26, in planning, implementing, and evaluating the project (see section 682(a)(1)(A) of IDEA).

IV. Application and Submission Information

1. Address to Request Application Package: You can obtain an application package via the Internet or from the Education Publications Center (ED Pubs). To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.325K.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to no more than 50 pages, using the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial. An application submitted in any other font (including Times Roman or Arial Narrow) will not be accepted.

The page limit and double-spacing requirement does not apply to Part I, the cover sheet; Part II, the budget section, including the narrative budget justification; Part IV, the assurances and certifications; or the abstract (follow the guidance provided in the application package for completing the abstract), the table of contents, the list of priority requirements, the resumes, the reference list, the letters of support, or the appendices. However, the page limit and double-spacing requirement does apply to all of Part III, the application narrative, including all text in charts, tables, figures, graphs, and screen shots.

We will reject your application if you exceed the page limit in the application narrative section; or if you apply standards other than those specified in the application package.

3. Submission Dates and Times:

Applications Available: October 22, 2014.

Deadline for Transmittal of Applications: December 5, 2014.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice.

Deadline for Intergovernmental Review: February 3, 2015.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov tip sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications.

Applications for grants under the Personnel Preparation in Special Education, Early Intervention, and Related Services competition, CFDA number 84.325K, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Personnel Preparation in Special Education, Early Intervention, and Related Services competition at www.Grants.gov. You must search for the downloadable application package for this program by the CFDA number. Do not include the CFDA number's alpha suffix in your search (e.g., search for 84.325, not 84.325K).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Mary Ann McDermott, U.S. Department of Education, 400 Maryland Avenue SW., Room 4062, Potomac Center Plaza (PCP), Washington, DC 20202-2600. FAX: (202) 245-7617.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.325K), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.325K), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under current 34 CFR 74.14 and 80.12 and, when grants are made under this NIA, 2 CFR 3574.10, the Secretary may impose specific conditions and, in appropriate circumstances, high risk conditions on a grant if the applicant or grantee is not financially stable; has a history of unsatisfactory performance; has a financial or other management system that does not meet the standards in 34 CFR parts 74 or 80, as applicable or, when grants are awarded, the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) The Secretary may provide a grantee with additional funding for data collection analysis and reporting. In this case the Secretary establishes a data collection period.

4. Performance Measures: Under the Government Performance and Results Act of 1993 (GPRA), the Department has established a set of performance measures, including long-term measures, that are designed to yield information on various aspects of the effectiveness and quality of the Personnel Development to Improve Services and Results for Children with Disabilities Program. These measures include: (1) The percentage of Special Education Personnel Development projects that incorporate evidence-based practices into their curriculum; (2) the percentage of scholars completing Special Education Personnel Development-funded programs who are knowledgeable and skilled in evidence-based practices for infants, toddlers, children, and youth with disabilities; (3) the percentage of Special Education Personnel Development-funded scholars who exit preparation programs prior to completion due to poor academic performance; (4) the percentage of Special Education Personnel Development-funded degree/certification recipients who are working in the area(s) for which they were prepared upon program completion; (5) the percentage of Special Education Personnel Development-funded degree/certification recipients who are working in the area(s) for which they were prepared upon program completion and who are fully qualified under IDEA; (6) the percentage of Special Education Personnel Development degree/certification recipients who maintain employment in the area(s) for which they were prepared for three or more years and who are fully qualified under IDEA; and (7) the Federal cost per fully qualified degree/certification recipient.

In addition, the Department will be gathering information on the following outcome measures: (1) The number and percentage of degree/certification recipients who are employed in high-need schools; (2) the number and percentage of degree/certification recipients who are employed in a school for at least three years; and (3) the number and percentage of degree/certification recipients whose employers are satisfied with the performance of the individuals.

Grantees may be asked to participate in assessing and providing information on these aspects of program quality.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contacts

For Further Information Contact: See chart in the Award Information section in this notice for the name, room number, telephone number, and email address of the contact person for each Focus Area of this competition. You can write to the Focus Area contact person at the following address: U.S. Department of Education, 400 Maryland Avenue SW., Potomac Center Plaza (PCP), Washington, DC 20202-2600.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: October 17, 2014.
Michael K. Yudin,
Acting Assistant Secretary for Special Education and Rehabilitative Services.

[FR Doc. 2014-25182 Filed 10-21-14; 8:45 am]

BILLING CODE 4000-01-P